DEPARTMENT OF STATE

[Public Notice 5143]

30-Day Notice of Proposed Information Collections

ACTION: Notice of request for public comments and submission to OMB of proposed collection of information.

SUMMARY: The Department of State has submitted the following information collection request to the Office of Management and Budget (OMB) for approval in accordance with the Paperwork Reduction Act of 1995.

• Title of Information Collection: Statement of Registration

• OMB Control Number: 1405-0002

• Type of Request: Extension of Currently Approved Collection

• Originating Office: Bureau of Political-Military Affairs, Directorate of Defense Trade Controls, PM/DDTC

• Form Number: DS-2032

• Respondents: Business and non-profit organizations

• Estimated Number of Respondents: 3,500 (total)

• Estimated Number of Responses: 3,500 (per year)

• Average Hours Per Response: 2 hours

• Total Estimated Burden: 7,000 hours (per year)

• Frequency: Every one or two years

• Obligation to Respond: Mandatory

• Title of Information Collection: Application/License for Permanent Export of Unclassified Defense Articles and Related Unclassified Technical Data

• OMB Control Number: 1405-0003

• Type of Request: Extension of Currently Approved Collection

• Originating Office: Bureau of Political-Military Affairs, Directorate of Defense Trade Controls, PM/DDTC

• Form Number: DSP-5

• Respondents: Business and non-profit organizations

• Estimated Number of Respondents: 5,000 (total)

• Estimated Number of Responses: 35,000 (per year)

• Average Hours Per Response: 1 hour

• Total Estimated Burden: 35,000 hours (per year)

• Frequency: On occasion

• Obligation to Respond: Required to Obtain Benefits

• Title of Information Collection: Application/License for Temporary Import of Unclassified Defense Articles

• OMB Control Number: 1405-0013

• Type of Request: Extension of Currently Approved Collection

• Originating Office: Bureau of Political-Military Affairs, Directorate of Defense Trade Controls, PM/DDTC

• Form Number: DSP-61

• Respondents: Business and non-profit organizations

• Estimated Number of Respondents: 200 (total)

• Estimated Number of Responses: 1,200 (per year)

• Average Hours Per Response: ½ hour (30 minutes)

• Total Estimated Burden: 600 hours (per year)

• Frequency: On occasion

• Obligation to Respond: Required to Obtain Benefits

• Title of Information Collection: Application/License for Temporary Export of Unclassified Defense Articles

• OMB Control Number: 1405-0023

• Type of Request: Extension of Currently Approved Collection

• Originating Office: Bureau of Political-Military Affairs, Directorate of Defense Trade Controls, PM/DDTC

• Form Number: DSP-73

• Respondents: Business and non-profit organizations

• Estimated Number of Respondents: 400 (total)

• Estimated Number of Responses: 2,700 (per year)

• Average Hours Per Response: 1 hour

• Total Estimated Burden: 2,700 hours (per year)

• Frequency: On occasion

• Obligation to Respond: Required to Obtain Benefits

• Title of Information Collection: Application/License for Permanent/Temporary Export or Temporary Import of Classified Defense Articles and Classified Technical Data

• OMB Control Number: 1405-0022

• Type of Request: Extension of Currently Approved Collection

• Originating Office: Bureau of Political-Military Affairs, Directorate of Defense Trade Controls, PM/DDTC

• Form Number: DSP-85

• Respondents: Business and non-profit organizations

• Estimated Number of Respondents: 100 (total)

• Estimated Number of Responses: 260 (per year)

• Average Hours Per Response: ½ hour (30 minutes)

• Total Estimated Burden: 130 hours (per year)

• Frequency: On occasion

• Obligation to Respond: Required to Obtain Benefits

• Title of Information Collection: Non-Transfer and Use Certificate

• OMB Control Number: 1405-0021

• Type of Request: Extension of Currently Approved Collection

• Originating Office: Bureau of Political-Military Affairs, Directorate of Defense Trade Controls, PM/DDTC

• Form Number: DSP-83

• Respondents: Business and non-profit organizations

• Estimated Number of Respondents: 5,000 (total)

• Estimated Number of Responses: 9,000 (per year)

• Average Hours Per Response: 1 hour

• Total Estimated Burden: 9,000 hours (per year)

• Frequency: On occasion

• Obligation to Respond: Required to Obtain Benefits

• Title of Information Collection: Statement of Political Contributions, Fees, or Commissions in Connection with the Sale of Defense Articles or Services

• OMB Control Number: 1405-0025

• Type of Request: Extension of Currently Approved Collection

• Originating Office: Bureau of Political-Military Affairs, Directorate of Defense Trade Controls, PM/DDTC

• Form Number: None.

• Respondents: Business and non-profit organizations

• Estimated Number of Respondents: 5,000 (total)

• Estimated Number of Responses: 7,250 (per year)

• Average Hours Per Response: 1 hour

• Total Estimated Burden: 7,250 hours (per year)

• Frequency: On occasion

• Obligation to Respond: Mandatory

• Title of Information Collection: Application for Amendment to License for Export or Import of Classified or Unclassified Defense Articles and Related Technical Data

• OMB Control Number: 1405-0092

• Type of Request: Extension of Currently Approved Collection

• Originating Office: Bureau of Political-Military Affairs, Directorate of Defense Trade Controls, PM/DDTC

• Form Number: DSP-119

• Respondents: Business and non-profit organizations

• Estimated Number of Respondents: 5,000 (total)

• Estimated Number of Responses: 9,000 (per year)

• Average Hours Per Response: ½ hour (30 minutes)

• Total Estimated Burden: 4,500 hours (per year)

• Frequency: On occasion

• Obligation to Respond: Required to Obtain Benefits

• Title of Information Collection: Authority to Export Defense Articles and Services Sold under the Foreign Military Sales (FMS) Program

• OMB Control Number: 1405-0051

• Type of Request: Extension of Currently Approved Collection

• Originating Office: Bureau of Political-Military Affairs, Directorate of Defense Trade Controls, PM/DDTC

• Form Number: DSP-94

• Respondents: Business and non-profit organizations

• Estimated Number of Respondents: 250 (total)

• Estimated Number of Responses: 2,500 (per year)

• Average Hours Per Response: ½ hour (30 minutes)

• Total Estimated Burden: 1,250 hours (per year)

• Frequency: On occasion

• Obligation to Respond: Required to Obtain Benefits

• Title of Information Collection: Request for Approval of Manufacturing License Agreements, Technical Assistance Agreements, and Other Agreements

• OMB Control Number: 1405-0093

• Type of Request: Extension of Currently Approved Collection

• Originating Office: Bureau of Political-Military Affairs, Directorate of Defense Trade Controls, PM/DDTC

• Form Number: None

• Respondents: Business and non-profit organizations

• Estimated Number of Respondents: 5,000 (total)

• Estimated Number of Responses: 6,700 (per year)

• Average Hours Per Response: 2 hours

• Total Estimated Burden: 13,400 hours (per year)

• Frequency: On occasion

• Obligation to Respond: Required to Obtain Benefits

• Title of Information Collection: Maintenance of Records by Registrants

• OMB Control Number: 1405-0111

• Type of Request: Extension of Currently Approved Collection

• Originating Office: Bureau of Political-Military Affairs, Directorate of Defense Trade Controls, PM/DDTC

• Form Number: None

• Respondents: Business and non-profit organizations

• Estimated Number of Respondents: 5,000 (total)

• Estimated Number of Responses: 5,000 (per year)

• Average Hours Per Response: 20 hours

• Total Estimated Burden: 100,000 hours (per year)

• Frequency: On occasion

• Obligation to Respond: Mandatory

• Title of Information Collection: Prior Approval for Brokering Activity

• OMB Control Number: 1405-0142

• Type of Request: Extension of Currently Approved Collection

• Originating Office: Bureau of Political-Military Affairs, Directorate of Defense Trade Controls, PM/DDTC

• Form Number: None

• Respondents: Business and non-profit organizations

• Estimated Number of Respondents: 14 (total)

• Estimated Number of Responses: 25 (per year)

• Average Hours Per Response: 2 hours

• Total Estimated Burden: 50 hours (per year)

• Frequency: On occasion

• Obligation to Respond: Required to Obtain Benefits

• Title of Information Collection: Brokering Activity Reports

• OMB Control Number: 1405-0141

• Type of Request: Extension of Currently Approved Collection

• Originating Office: Bureau of Political-Military Affairs, Directorate of Defense Trade Controls, PM/DDTC

• Form Number: None

• Respondents: Business and non-profit organizations

• Estimated Number of Respondents: 280 (total)

• Estimated Number of Responses: 280 (per year)

• Average Hours Per Response: 2 hours

• Total Estimated Burden: 560 hours (per year)

• Frequency: On occasion

• Obligation to Respond: Mandatory

DATES: Submit comments to the Office of Management and Budget (OMB) for up to 30 days from July 29, 2005.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, 725 17th Street, NW., Washington, DC 20503.

• Fax: 202-395-6974.

FOR FURTHER INFORMATION CONTACT: You may obtain copies of the proposed information collection and supporting documents from Angelo Chang, the Acting Director of the Office of Defense Trade Controls Management, Department of State, who may be reached via telephone at 202-663-2830, or via e-mail at ChangAA@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The export, temporary import, temporary export and brokering of defense articles, defense services and related technical data are licensed by the Directorate of Defense Trade Controls in accordance with the International Traffic in Arms Regulations (22 CFR parts 120-130). The public must submit an application or written request of the transaction to the Department to obtain a decision whether it is in the interests of U.S. foreign policy and national security to approve the transaction. Also, there is an annual reporting requirement from the defense industry regarding all brokering activity that was transacted. Furthermore, there is a requirement for the public to maintain such records for five years.

Methodology: These forms/information collections may be sent to the Directorate of Defense Trade Controls via the following methods: mail, personal delivery, fax, and/or electronically.

Dated: June 14, 2005.
Michael T. Dixon,
Deputy Assistant Secretary for Defense Trade Controls, Acting, Bureau of Political-Military Affairs, Department of State.

[FR Doc. 05-15047 Filed 7-28-05; 8:45 am]

BILLING CODE 4710-25-P